ENVIRONMENTAL PROTECTION AGENCY

[ER-FRL-8990-1]

Environmental Impacts Statements; Notice of Availability

Responsible Agency: Office of Federal Activities, General Information (202) 564-1399 or http://www.epa.gov/compliance/nepa/

Weekly receipt of Environmental Impact Statements

Filed 04/19/2010 Through 04/23/2010 Pursuant to 40 CFR 1506.9

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100146, Draft EIS, FHWA, CA, Tier 1—Hollister to Gilroy State Route 25 Widening and Route Adoption, Proposal Widen from Two-Lane Conventional Highway to Four-Lane Expressway, and Route Adoption, San Benito and Santa Clara Counties, CA, Comment Period Ends: 06/14/2010, Contact: G. William Norris III 805-542-4711.

EIS No. 20100147, Draft EIS, NPS, FL, PROGRAMMATIC—Coral Reef Restoration Plan, Implementation, Biscayne National Park, Homestead, FL, Comment Period Ends: 06/28/2010, Contact: Thomas Flanagan 303-969-2691.

EIS No. 20100148, Final EIS, USFS, CO, Gunnison Basin Federal Lands Travel Management Project, To Address Travel Management on Federal Lands within the Upper Gunnison Basin and North Fork Valley, Implementation, Gunnison, Delta, Hinsdale and Saguache Counties, CO, Wait Period Ends: 06/01/2010, Contact: Gary S. Shellhorn 970-874-6666.

EIS No. 20100149, Draft EIS, NOAA, 00, American Lobster Fishery, Proposed Effort Control Measures, Interstate Fishery Management Plan, Implementation, Maine through North Carolina, Comment Period Ends: 06/28/2010, Contact: Patricia A. Kurkull 978-281-9300.

EIS No. 20100150, Draft Supplement, USFS, CA, Tehachapi Renewable Transmission Project, New Information on Changed Conditions Caused by the Station Fire, Construct, Operate and Maintain New and Upgraded 500 kV and 220kV Transmission Lines and Substations, Special Use Authorization, Angeles National Forest, Los Angeles County, CA, Comment Period Ends: 06/14/2010, Contact: Justin Seastrand 626-574-5278.

EIS No. 20100151, Draft EIS, USFS, OR, Cobbler II Timber Sale and Fuels Reduction Project, Proposing Vegetation and Fuels Management to Improve Health and Vigor Upland Forest Stands and Reduce Hazardous and Ladder Fuels, Walla Walla Ranger District, Umatilla National Forest, Wallowa and Union Counties, OR, Comment Period Ends: 06/14/2010, Contact: Betsy Kaiser 509-572-6290.

EIS No. 20100152, Final EIS, USFS, CA, Piute Fire Restoration Project, Proposes to Salvage Dead and Dying Trees, Treat Excess Fuels, and Plant Trees, Kern River Ranger District, Sequoia National Forest, Kern County, CA, Wait Period Ends: 06/01/2010, Contact: Barbara Johnston 559-784-1500 Ext. 1220.

EIS No. 20100153, Final EIS, BR, CA, Millerton Lake Resource Management Plan (RMP) and General Plan, Implementation, Fresno and Madera Counties, CA, Wait Period Ends: 06/01/2010, Contact: Jack Collins 559-349-4544.

EIS No. 20100154, Draft EIS, BLM, NV, Genesis Project, Proposes Expansion of Existing Mine Pits and Development of the Bluestar Ridge Open Pit Mine, Newmont Mining Corporation, Eureka County, NV, Comment Period Ends: 06/14/2010, Contact: Kirk Laird 775-753-0272.

EIS No. 20100155, Final EIS, USFS, OR, Canyon Fuels and Vegetation Management Project, Proposed Fuels and Vegetation Treatment to Reduce the Risk of Stand Loss Due to Overly Dense Stand Conditions, Lookout Mountain Ranger District, Ochoco National Forest, Crook County, OR, Wait Period Ends: 06/01/2010, Contact: Marcy Anderson 541-416-6463.

EIS No. 20100156, Final EIS, USCG, 00, USCG Pacific Operations: Districts 11 Area, California and Districts 13 Area, Oregon and Washington, Improve the Protection and Conservation of Marine Protected Species and Marine Protected Areas, CA, OR and WA, Wait Period Ends: 06/01/2010, Contact: Jeff R. Bray 202-372-3752.

Amended Notices

EIS No. 20100133, Final EIS, FHWA, 00, TIER 1—FEIS Trans-Texas Corridor—35 (TTC-35) System, Improvement to International, Interstate and Intrastate Movement of Goods and People, Oklahoma-Mexico/Gulf Coast Element, Wait Period Ends: 05/25/2010, Contact: Brett Jackson 512-536-5946 Revision to FR Notice Published 04/26/2010: Correction to Wait Period End from 05/24/2010 to 05/25/2010.

EIS No. 20100134, Final EIS, FHWA, TN, US 127/TN 28 Improvements, from 1-40 at Crossville to TN 62 at Clarkrange, Funding, US Army COE Section 10 and 404 Permits, Cumberland and Fentress Counties, TN, Wait Period Ends: 05/25/2010, Contact: Pamela M. Kordenbrock 615-781-5770, Revision to FR Notice Published 04/26/2010: Correction to Wait, Period End from 05/24/2010 to 05/25/2010.

EIS No. 20100135, Final EIS, BLM, NV, Round Mountain Expansion Project, Proposed to Construct and Operate and Expand the Existing Open-Pit Gold Mining and Processing Operations, north of the town of Tonopah in Nye County, NV, Wait Period Ends: 05/25/2010, Contact: Christopher Worthington 775-635-4000 Revision to FR Notice Published 04/26/2010: Correction to Wait Period End from 05/24/2010 to 05/25/2010.

EIS No. 20100136, Final EIS, USFS, 00, Nebraska National Forests and Grassland Travel Management Project, Proposes to Designate Routes and Areas Open to Motorized Travel, Buffalo Gap National Grassland, Oglala National Grassland, Samuel R. McKelvie National Forest, and the Pine Ridge and Bessey Units of the Nebraska National Forest, Fall River, Custer, Pennington, Jackson Counties; SD and Sioux, Dawes, Cherry, Thomas and Blaine Counties, NE, Wait Period Ends: 05/25/2010, Contact: Mike McNeill 308-432-0336, Revision to FR Notice Published 04/26/2010: Correction to Wait, Period End from 05/24/2010 to 05/25/2010.

EIS No. 20100137, Draft EIS, USFS, ID, Robo Elk Project, Proposes Watershed Improvement, Timber Harvest, Fuel Treatments, and Recreation Activities, Palouse Ranger District, Clearwater National Forest, Clearwater County, ID, Comment Period Ends: 06/09/2010, Contact: George Harbaugh 208-935-4260, Revision to FR Notice Published 04/26/2010: Correction to Comment Period End from 06/07/2010 to 06/09/2010.

EIS No. 20100138, Final EIS, BR, CA, Lake Casitas Resource Management Plan (RMP), Implementation, Cities of Los Angeles and Ventura, Western Ventura County, CA, Wait Period Ends: 05/25/2010, Contact: Jack Collins 559-349-4544, Revision to FR Notice Published 04/26/2010: Correction to Wait, Period End from 05/24/2010 to 05/25/2010.

EIS No. 20100139, Draft EIS, USFS, CA, Kelsey Peak Timber Sale and Fuelbreak Project, Proposing to Harvest Commercial Timber and Create Fuelbreak, Upper Mad River Watershed, Mad River Ranger District, Six Rivers National Forest, Trinity County, CA, Comment Period Ends: 06/09/2010, Contact: Keith Menasco 928-774-0594, Revision to FR Notice Published 04/26/2010: Correction to Comment Period End from 06/07/2010 to 06/09/2010.

EIS No. 20100140, Final EIS, FSA, 00, WITHDRAWN—PROGRAMMATIC—Biomass Crop Assistance Program (BCAP), To Establish and Administer the Program Areas Program Component of BCAP as mandated in Title IX of the 2008 Farm Bill in the United States, Wait Period Ends: 05/25/2010, Contact: Matthew T. Ponish 202-720-6853, Revision to FR Notice Published 04/26/2010: Officially Withdrawn by the preparing agency by letter dated 04/26/2010.

EIS No. 20100141, Final EIS, BLM, UT, Mona to Oquirrh Transmission Corridor Project and Draft Pony Express Resource Management Plan Amendment, Construction, Operation, Maintenance and Decommissioning a Double-Circuit 500/345 Kilovolt (Kv) Transmission Line, Right-of-Way Grant, Rocky Mountain Power, Juab, Salt Lake, Tooele and Utah Counties, UT, Wait Period Ends: 05/25/2010, Contact: Mike Nelson 801-977-4300, Revision to FR Notice Published 04/26/2010: Correction to Wait, Period End from 05/24/2010 to 05/25/2010.

EIS No. 20100142, Draft EIS, USFS, UT, Kitty Hawk Administrative Site Master Development Plan, Implementation, Cedar City Ranger District, Dixie National Forest, Cedar City, Iron County, UT, Comment Period Ends: 06/09/2010, Contact: Georgina Lampman 435-865-3794, Revision to FR Notice Published 04/26/2010: Correction to Comment Period End from 06/07/2010 to 06/09/2010.

EIS No. 20100143, Final EIS, FHWA, NC, NC-24 Transportation Improvements, from west of I-95 to I-40, Funding, US Army COE 4040 Permit, Cumberland, Sampson, and Duplin Counties, NC, Wait Period Ends: 05/25/2010, Contact: John F. Sullivan 919-865-4346, Revision to FR Notice Published 04/26/2010: Correction to Wait, Period End from 05/24/2010 to 05/25/2010.

EIS No. 20100144, Draft EIS, NRC, SC, Virgil C. Summer Nuclear Station Units 2 and 3, Application for Combined License to Construct and Operate a New Nuclear Reactors, Fairfield County, SC, Comment Period Ends: 07/09/2010, Contact: Patricia Vokoun 301-415-3470, Revision to FR Notice Published 04/26/2010: Correction to Comment Period End from 07/06/2010 to 07/09/2010.

EIS No. 20100145, Draft EIS, NRC, MD, Calvert Cliffs Nuclear Power Plant Unit 3, Application for Combined License for Construct and Operate a New Nuclear Unit, NUREG 1936, Calvert County, MD, Comment Period Ends: 07/09/2010, Contact: Laura Quinn 301-415-2220, Revision to FR Notice Published 04/26/2010: Correction to Comment Period End from 07/06/2010 to 07/09/2010.

Dated: April 27, 2010.
Robert W. Hargrove,
Director, NEPA Compliance Division, Office of Federal Activities.

[FR Doc. 2010-10156 Filed 4-29-10; 8:45 am]

BILLING CODE 6560-50-P